DEPARTMENT OF LABOR

Office of the Secretary

“Strengthening Labor Law Compliance in the United Republic of Tanzania”

AGENCY: Bureau of International Labor Affairs, Department of Labor.

Announcement Type: New. Notice of Availability of Funds and Solicitation for Cooperative Agreement Applications. The full announcement is posted on http://www.Grants.Gov as well as on the DOL Web site at http://www.dol.gov/ilab.

Funding Opportunity Number: SGA 08-08.

Key Dates: The closing date for receipt of applications is May 30, 2008.

Funding Opportunity Description: The U.S. Department of Labor (USDOL), Bureau Of International Labor Affairs (ILAB), Announces the Availability of $1,710,000 to be awarded by cooperative agreement (hereinafter referred to as “Grant” or “Cooperative Agreement”) to an international organization for the purpose of improving labor law compliance in Tanzania. ILAB is authorized to award and administer this program by the Consolidated Appropriations Act, 2008, Public Law No. 110-161, 121 Stat. 1844 (2007). The Cooperative Agreement awarded under this initiative will be managed by ILAB's Office of Trade and Labor Affairs. The duration of the project funded by this solicitation is three to four years. The start date of program activities will be negotiated upon award of the cooperative agreement, but will be no later than September 30, 2008.

The full solicitation for grant application is posted on http://www.Grants.Gov under U.S. Department of Labor/ILAB. Only applications submitted through http://www.Grants.Gov will be accepted. If you need to speak to a person concerning these grants, or if you have issues regarding access to the Grants.gov Web site, you may telephone Lisa Harvey at 202-693-4592 (not a toll-free number).

Signed at Washington, DC, this 2nd day of May 2008.
Lisa Harvey,
Grant Officer.

[FR Doc. E8-10269 Filed 5-7-08; 8:45 am]

BILLING CODE 4510-28-P